DEPARTMENT OF ENERGY

Federal Energy Regulatory Commission

[Project No. 5865-015]

David E. Cereghino, Idaho County Light & Power Cooperative Association, Inc.; Notice of Transfer of Exemption

1. By letter filed March 25, 2011, David E. Cereghino and Idaho County Light & Power Cooperative Association, Inc. informed the Commission that the exemption from licensing for the Cereghino Hydro Project, FERC No. 5865, originally issued April 6, 1984,¹ has been transferred to Idaho County Light & Power Cooperative Association, Inc. The project is located on John Day Creek in Idaho County, Idaho. The transfer of an exemption does not require Commission approval.

¹ 27 FERC ¶ 61,052, Order Granting Exemption from Licensing of a Small Project of 5 MW or Less.

2. Idaho County Light & Power Cooperative Association, Inc. is now the exemptee of the Cereghino Project, FERC No. 5865. Forward all mail to Mr. Jay G. Eimers, General Manager, Idaho County Light & Power Cooperative Association, Inc., P.O. Box 300, Grangeville, ID 83530.

Dated: September 25, 2013.
Nathaniel J. Davis, Sr.,
Deputy Secretary.

[FR Doc. 2013-23880 Filed 9-30-13; 8:45 am]

BILLING CODE 6717-01-P